DEPARTMENT OF TRANSPORTATION

National Highway Traffic Safety Administration

[Docket No. NHTSA-2025-0016]

Agency Information Collection Activities; Notice and Request for Comment; Annual Motor Vehicle and Child Restraint Compliance Information Requests

AGENCY: National Highway Traffic Safety Administration (NHTSA or the “Agency”), Department of Transportation (DOT).

ACTION: Notice and request for comments on the approval of a new information collection.

SUMMARY: NHTSA invites public comments about our intention to request approval from the Office of Management and Budget (OMB) for a new information collection. Before a federal agency can collect certain information from the public, it must receive approval from OMB. Under procedures established by the Paperwork Reduction Act of 1995, before seeking OMB approval, federal agencies must solicit public comment on proposed collections of information, including extensions and reinstatement of previously approved collections. This document describes a new collection of information, for which NHTSA intends to seek OMB approval, for obtaining motor vehicle model year and child restraint information that supports compliance programs administered by NHTSA's Office of Vehicle Safety Compliance (OVSC).

DATES: Comments must be submitted on or before January 20, 2026.

ADDRESSES: You may submit comments identified by the Docket No. NHTSA-2025-0016 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone can search the electronic form of all comments received into any of our dockets by the name of the individual submitting the comment (or signing the comment if submitted on behalf of an association, business, labor union, etc.). You may review DOT's complete Privacy Act Statement, which DOT published in the Federal Register on April 11, 2000 (65 FR 19477-78), or you may visit https://www.transportation.gov/privacy.

Docket: For access to the docket to read background documents or comments received, go to http://www.regulations.gov or the street address for DOT that is listed above. Follow the online instructions for accessing dockets via the internet.

FOR FURTHER INFORMATION CONTACT: For additional information or access to background documents, contact Maurice Hicks, Chief Crash Avoidance, Office of Vehicle Safety Compliance, NEF-210, (202) 366-5289, National Highway Traffic Safety Administration, W43-504, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the Agency is seeking approval from OMB.

Title: Annual Motor Vehicle and Child Restraint Compliance Information Requests.

OMB Control Number: New.

Form Number(s): (1) NHTSA Form 2042—Model Year Information Request Form and (2) NHTSA Form 2043—Annual Child Restraint Response Form.

Type of Request: Approval of a new information collection.

Type of Review Requested: Regular.

Requested Expiration Date of Approval: 3 years from the date of approval.

Summary of the Collection of Information: NHTSA is seeking approval of a new information collection to allow the agency to collect information from manufacturers of vehicles and child restraint systems to aid the agency's efforts to enforce compliance with the Federal Motor Vehicle Safety Standards (FMVSS). The information collection request is for two annual information requests that will be sent to manufacturers. NHTSA will use the manufacturers submissions to help identify possible non-compliances.

NHTSA's Office of Vehicle Safety Compliance (OVSC) conducts inspections and investigations through market surveillance aimed at identifying possible non-compliances with the FMVSS pursuant to 49 U.S.C. 30166(b). To support its annual compliance testing programs, OVSC issues information requests to manufacturers to obtain model year and production data, technical specifications, and certification details for vehicles and regulated equipment. The information collected is used, along with other available information, to identify vehicles and equipment for inclusion in OVSC's compliance testing programs, considering factors such as high sales volumes, newly redesigned platforms, emerging technologies, prior compliance failures, or the focus of targeted investigations.

The first information collection is the “Model Year Information Request Letter,” which is a standardized letter that OVSC plans to send to manufacturers in March of each calendar year requesting specific safety certification information and production estimates for the upcoming model year and any early entrants for the following model year. The letter also requests information on vehicle characteristics, performance, and technologies used by manufacturers to comply with the FMVSS and other regulations administered by NHTSA. Th letter and form also seek information on optional and partial compliance plans for manufacturers meeting standards with phase-in effective dates. Additionally, the forms request information on carryover vehicles (those having similar vehicle configurations to those manufactured in previous model years) and on vehicles manufactured for individuals with disabilities. Vehicle manufacturers are requested to provide the information on complete and incomplete vehicles that have a Gross Vehicle Weight Rating of 4,536 kg (10,000 lbs.) or less for each vehicle line that is to be offered for sale in the United States during the applicable model year. In addition to each letter, a standardized template is also provided with a format for manufacturers to follow when providing the requested information.

The second information collection is the “Annual Child Restraint Certification Information Request Letter.” This document is a standardized letter seeking data needed to select and test child restraint systems (CRS) to the requirements in FMVSS No. 213, Child restraint systems, FMVSS No. 213a, “Child restraint systems—side impact protection,” and/or FMVSS No. 213b, “Child restraint systems.” FMVSS No. 213, FMVSS No. 213a, and FMVSS 213b specify labeling requirements and performance standards for several tests, including frontal and side dynamic tests. The standards also have criteria for component testing for webbing and buckles. To validate manufacturer certifications of these products through NHTSA's test program, information is requested on CRS offered for sale in the United States. Although some of the needed information can be obtained through market research, manufacturer data is necessary to select products for testing and to properly test those products that are chosen by NHTSA. The letter would request information including the style of the CRS, identification information, estimated production volumes, costs, the anthropomorphic test devices used to certify the CRS, certification and other test data, and where the CRS can be purchased. Similar to the model year request, a standardized template is also provided with each CRS request letter in a format for manufacturers to use when providing the requested information.

Description of the Need for the Information and Proposed Use of the Information: The information collected will facilitate OVSC's compliance verification program to ensure that manufacturers are manufacturing motor vehicles and motor vehicle equipment that meet applicable safety performance requirements that are essential to reducing or eliminating deaths and injuries on our Nation's roads. The information requested in this collection includes information that is used to: (1) carry out OVSC's compliance testing programs (for example, to make selections of vehicles and equipment to test, determine what testing to conduct, and/or pursue enforcement actions against makes and models failing compliance testing); (2) ensure compliance programs are up-to-date due to technological changes in vehicles and equipment; and (3) assist in identifying the root causes for failures in suspected noncompliant vehicles and equipment.

Affected Public: The affected public for this information collection includes vehicle manufacturers and CRS manufacturers required to comply with NHTSA's FMVSS and regulations.

Estimated Number of Respondents: On average, OVSC expects to send the Model Year Information Request Letter and Model Year Information Request Form to 26 respondents each year. OVSC expects to send the Annual Child Restraint Certification Information Request Letter and Annual Child Restraint Response Form to an average of 40 respondents each year.

Frequency: Annual.

Estimated Total Annual Burden Hours: 1,456 hours.

NHTSA estimates that the total annual burden for these two information collections will be a combined 1,456 hours. Table 1 provides the breakdown of the total estimated annual burden hours associated with each information collection request. The table includes a description of the activities involved in each of the collections, the burden hours for the employees involved in each activity, the total number of manufacturers providing the information, and the total calculated burden hours for each activity.

Table 1—Respondent Burden Hours for Vehicle and Equipment and Child Restraint Information Requests
Reporting type | Burden hours | Number of respondents | Total hours
MODEL YEAR INFORMATION REQUESTS
Manufacturers receive and process the Model Year Information Request Letter—OMB No. 2042 and the Model Year Information Request Form—OMB No. 2042 | 2 | 26 | 52
Manufacturers identify data sources for responding to information requests. [Manufacturers have existing databases with vehicle and equipment certifications, which they are expected to use in responding to requests.] | 2 | 26 | 52
Manufacturers create responses in accordance with OVSC's reporting requirements and formats | 8 | 26 | 208
Manufacturers review responses for accuracy and completeness | 8 | 26 | 208
Manufacturers submit their responses to the appropriate OVSC division within the requested deadlines | 1 | 26 | 26
Manufacturers make changes to their original responses and then resubmit in response to any changes or additional information requested by OVSC | 5 | 26 | 130
Subtotal | 26 | 26 | 676
CHILD RESTRAINT INFORMATION REQUEST
Manufacturers receive and process the Request for Annual Child Restraint Certification Information Request Letter—OMB No. 2043 and the Annual Child Restraint Response Form—OMB No. 2043 | 2 | 40 | 80
Manufacturers identify data sources for responding to information requests. [Manufacturers have existing databases with child restraint certifications, and production information to respond to requests.] | 2 | 40 | 80
Manufacturers create responses in accordance with OVSC's reporting requirements and formats | 4 | 40 | 160
Manufacturers review responses for accuracy and completeness | 8 | 40 | 320
Manufacturers submit their responses to the appropriate OVSC division within the requested deadlines | 1 | 40 | 40
Manufacturers make changes to their original responses and then resubmit in response to any changes or additional information requested by OVSC | 2.5 | 40 | 100
Subtotal | 19.5 | 40 | 780
Total | 45.5 | * 66 | 1,456
* The total number of respondents includes those for the model year and child restraint information requests.

The labor costs associated with the burden hours are shown in Table 2. The costs are included in the table with a description of each activity, the total burden costs of the employees involved in each activity, the total number of manufacturers providing the information, and the total calculated burden costs of each activity.

Table 2—Labor Costs for Vehicle and Equipment and Child Restraint Information Requests
Reporting type | Burden rate | Number of respondents | Total costs
MODEL YEAR INFORMATION REQUESTS
Manufacturers receive and process the Model Year Information Request Letter—OMB No. 2042 and the Model Year Information Request Form—OMB No. 2042 | $70.47 | 26 | $1,832.22
Manufacturers identify data sources for responding to information requests. [Manufacturers have existing databases with vehicle and equipment certifications, and production information to respond to requests.] | 96.94 | 26 | 2,520.44
Manufacturers create responses in accordance with OVSC's reporting requirements and formats | 387.76 | 26 | 10,081.76
Manufacturers review responses for accuracy and completeness | 518.34 | 26 | 13,476.84
Manufacturers submit their responses to the appropriate OVSC division within the requested deadlines | 22.00 | 26 | 572.00
Manufacturers make changes to their original responses and then resubmit in response to any changes or additional information requested by OVSC | 281.17 | 26 | 7,310.42
Subtotal | 1,376.68 |  | 35,793.68
CHILD RESTRAINT INFORMATION REQUEST
Manufacturers receive and process the Request for Annual Child Restraint Certification Information Request Letter—OMB No. 2043 and the Annual Child Restraint Response Form—OMB No. 2043 | $70.47 | 40 | $2,818.80
Manufacturers identify data sources for responding to information requests. [Manufacturers have existing databases with child restraint certifications, and production information to respond to requests.] | 96.94 | 40 | 3,877.60
Manufacturers create responses in accordance with OVSC's reporting requirements and formats | 193.88 | 40 | 7,755.20
Manufacturers review responses for accuracy and completeness | 518.34 | 40 | 20,733.60
Manufacturers submit their responses to the appropriate OVSC division within the requested deadlines | 22.00 | 40 | 880.00
Manufacturers make changes to their original responses and then resubmit in response to any changes or additional information requested by OVSC | 140.59 | 40 | 5,623.40
Subtotal |  |  | 41,688.60
Total | NA | 66 | 77,482.28
LABOR RATES (based on May 2022 National Occupational Employment and Wage Estimates, see https://www.bls.gov/oes/current/oes_nat.htm#00-0000).

Estimated Total Annual Burden Cost: $77,482.28.

NHTSA estimates that there are no costs associated with the collections other than labor costs associated with the burden hours. Therefore, the annual burden costs associated with the hours for recipients responding to requests contained within this collection is $77,482.28.

Public comments invited: You are asked to comment on any aspects of this information collection, including: (a) whether the proposed collection of information is necessary for the proper performance of the functions of the U.S. Department of Transportation (the Department), including whether the information will have practical utility; (b) the accuracy of the Department's estimate of the burden of the proposed information collection; (c) ways to enhance the quality, utility, and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Eileen Sullivan,
Associate Administer, Enforcement.

[FR Doc. 2025-20343 Filed 11-19-25; 8:45 am]

BILLING CODE 4910-59-P